DEPARTMENT OF HEALTH AND HUMAN SERVICES

Administration for Children and Families

[Program Announcement No. ACYF/CB-2001-02]

Announcement of the Availability of Financial Assistance and Request for Applications To Support Development and Delivery of the Infant Adoption Awareness Training Program

AGENCY: Administration on Children, Youth and Families, Administration for Children and Families, Department of Health and Human Services.

ACTION: Notice.

SUMMARY: The Children's Bureau (CB) within the Administration on Children, Youth and Families (ACYF), Administration for Children and Families (ACF) and the Health Resources and Services Administration (HRSA) of the Department of Health and Human Services (DHHS) announce the availability of financial assistance and request for applications for the Infant Adoption Awareness Training Program (IAATP) for Fiscal Year (FY) 2001 under section 330F of the Public Health Service (PHS) Act, as amended by Title XII, Subtitle A, of the Children's Health Act (CHA) of 2000, Public Law 106-310, enacted October 17, 2000. The IAATP projects are designed to provide Federal financial assistance to adoption agencies that will provide training to designated staff of eligible health centers so that they will be able to provide adoption counseling and referrals to pregnant women. Grantee adoption agencies must agree to develop and implement curricula and provide training-of-trainers (TOT) programs based on their curricula, or grantees may employ alternative approaches to ensure that eligible health center designated staff are trained during the course of the cooperative agreement funded period.

CLOSING TIME AND DATE: The closing time and date for RECEIPT of applications is 4:30 p.m. (Eastern Time Zone) on July 20, 2001.

Mailed or hand-carried applications received after 4:30 p.m. on the closing date will be classified as late and not considered in the current competition.

Deadline: Mailed or hand-carried applications shall be considered as meeting an announced deadline if they are received on or before the deadline time and date at:

Administration on Children, Youth and Families (ACYF), Operations Center, 1815 N. Fort Myer Drive, Suite 300, Arlington, Virginia 22209

The hours of operation are 8:00 a.m. to 4:30 p.m. (Eastern Time).

The phone number of the Operations Center is 1-800-351-2293.

Applicants are responsible for mailing applications well in advance to ensure that the applications are received on or before the deadline time and date. Applicants are cautioned that express/overnight mail services do not always deliver as agreed.

Applications hand-carried by applicants, applicant couriers, other representatives of the applicant, or by overnight/express mail couriers shall be considered as meeting an announced deadline if they are received on or before the closing time and date.

ACF cannot accommodate transmission of applications by fax or through other electronic media. Therefore, applications transmitted to ACF electronically will not be accepted regardless of date or time of submission and time of receipt.

Late applications: Applications that do not meet the above criteria are considered late applications. ACF shall notify each late applicant that its application will not be considered in the current competition.

Extension of deadlines: ACF may extend application deadlines when circumstances such as acts of God (e.g., floods or hurricanes) occur, or when there are widespread disruptions of mail service. Determinations to extend or waive deadline requirements rest with the Chief Grants Management Officer.

For Further Information Contact: The ACYF Operations Center is available to answer questions regarding application requirements and to refer you to the appropriate contact person in ACYF for programmatic questions. The telephone number is 1-800-351-2293 or you may contact them by e-mail at cb@lcgnet.com

SUPPLEMENTARY INFORMATION: This program announcement consists of four parts. Part I provides information on the Administration on Children, Youth and Families and Children's Bureau's statutory authority and available funds for the program covered in this announcement. Part II lists the programmatic priorities for which applications are being requested and provides general information. Part III provides information on the application, review, and funding process. The forms and general guidance to be used for submitting an application follow in Part IV. Please copy the forms as single-sided forms and use them in submitting an application under this announcement. No additional application materials are available or needed to submit an application.

This announcement package is also available online at http://www.acf.dhhs.gov/programs/CB under Policy and Funding Announcements on the Children's Bureau Web site. The required Federal forms are available online at http://www.acf.dhhs.gov/programs/ofs/grants/forms.htm

Applicants should note that grants to be awarded under this program announcement are subject to the availability of funds.

Outline of Announcement

Part I: Background

A. General Information on the Administration on Children, Youth and Families and the Children's Bureau

B. Legislative Framework

C. Statutory Authority Covering Discretionary Grant Programs in this Announcement and the Catalog of Federal Domestic Assistance (CFDA) Numbers

D. Structure of Priority Area Descriptions

E. Other Considerations

Part II: Priority Area

A. Priority Area List

B. Available Funds

C. Priority Area Description

Part III: The Application: Instructions, Review, and Funding Process

A. Application Format

B. Application Content

C. State Single Point of Contact (E.O. 12372)

D. The Paperwork Reduction Act of 1995 (Public Law 104-13)

E. The Screening, Review and Funding Process

Part IV: Application Forms, Assurances, and Certifications

A. Project Description Overview

B. Other Forms, Assurances, and Certifications

Part I: Background

A. General Information on the Administration on Children, Youth and Families and the Children's Bureau

The Administration on Children, Youth and Families (ACYF) administers national programs for children and youth, works with States and local communities to develop services that support and strengthen family life, seeks joint ventures with the private sector to enhance the lives of children and their families, and provides information and other assistance to parents. The concerns of ACYF extend to all children from birth through adolescence. Many of the programs administered by the agency focus on children from low-income families; abused and neglected children; children and youth in need of foster care, independent living, adoption or other child welfare services; preschool children; children with disabilities; runaway and homeless youth; and children from Native American and migrant families.

Within ACYF, the Children's Bureau plans, manages, coordinates, and supports child abuse and neglect prevention and child welfare services programs. It administers the Foster Care and Adoption Assistance Program, the Child Welfare Services State Grants Program, Child Welfare Services Training Programs, the Independent Living Program, the Adoption Opportunities Program, the Abandoned Infants Assistance Program, programs supported by the Promoting Safe and Stable Families Act, the Court Improvement Program, and programs funded under the Child Abuse Prevention and Treatment Act (CAPTA), including Basic State grants, the child abuse and neglect discretionary program, the Community-Based Family Resource and Support Program, and the Children's Justice Act Program.

The Children's Bureau programs are designed to promote the safety, permanency, and well being of all children. Training activities such as these contribute to that effort.

B. Legislative Framework

This section provides an overview of legislation applicable to the training activity described in this program announcement. It addresses the Children's Health Act. It also briefly reviews other policies and rules pertaining to improving services to and outcomes for abused and neglected children, children in foster care, and children awaiting adoptive families.

Overview of the Children's Health Act

With the passage of Public Law 106-310, enacted October 17, 2000, the Congress emphasized the need to address children's health services, pediatric research, developmental disabilities, birth defects prevention, prenatal and postnatal care, and other activities regarding children's health and well being. Title XII, Subtitle A—Infant Adoption Awareness of the Children's Health Act (http://frwebgate.access.gpo.gov/cgi-bin/getdoc.cgi?dbname=106_cong _public_laws &docid=f:publ310.106.pdf) authorized the U.S. Department of Health and Human Services (HHS) to make grants available to national, regional, or local adoption organizations for the purpose of developing and implementing programs to train the designated staff of eligible health centers in providing adoption information and referrals to pregnant women on an equal basis with all other courses of action included in nondirective counseling to pregnant women. In compliance with the legislation, HHS activities include the following:

• Establish and supervise a process through which adoption organizations and public health entity representatives collaborate to develop best-practice guidelines on the provision of adoption information and referrals to pregnant women on an equal basis with all other courses of action included in nondirective counseling to women;

• Award grant funds to adoption organizations to develop training curricula, consistent with the best-practice guidelines;

• Ensure that adoption organizations conduct training for all eligible health centers; and

• Report to the appropriate committees of Congress evaluating the extent to which adoption information and referral, upon request, are provided by eligible health centers in order to determine the effectiveness of such training and the extent to which the training addresses the requirement to provide information and referrals to pregnant women on an equal basis with all other courses of action included in nondirective counseling to women.

Multi-Ethnic Placement Act

Grantees should be familiar with the Multiethnic Placement Act (MEPA) as amended by the Interethnic Placement Act (Section 1808 of the Small Business Job Protection Act of 1996) which addresses the issue of race in foster care and adoption placements. Specifically, MEPA prohibits the delay or denial of any adoption or placement in foster care due to the race, color, or national origin of the child or the foster or adoptive parents and requires States to provide for diligent recruitment of potential foster and adoptive families that reflect the ethnic and racial diversity of children for whom homes are needed. Section 1808 of Pub. L. 104-188 affirms the prohibition against delaying or denying the placement of a child for adoption or foster care on the basis of race, color, or national origin of the foster or adoptive parents or the child involved [42 U.S.C. 1996b]. Training materials must encompass MEPA requirements.

Additional Information

The Children's Bureau's Web site (http://www.acf.dhhs.gov/programs/cb) provides a wide range of information and links to other relevant Web sites. Information readily available from the Children's Bureau Web site includes, but is not limited to, Final Rules published in the Federal Register, describing the child welfare outcome measures developed pursuant to the Adoption and Safe Families Act of 1997, monitoring activities pertaining to the Child and Family Services (CFS) reviews and Title IV-E eligibility, federally mandated information systems (e.g., Adoption and Foster Care Analysis and Reporting System), and other publications and reports.

C. Statutory Authority Covering Discretionary Grant Programs in This Announcement and the Catalog of Federal Domestic Assistance (CFDA) Numbers

Infant Adoption Awareness: Section 330F of the PHS Act, as amended by Title XII, Subtitle A, of the Children's Health Act of 2000 [42 U.S.C. 201 note] CFDA: 93.254

D. Structure of Priority Area Descriptions

The priority area description found in section D is composed of the following sections:

Eligible Applicants: This section specifies the types of agencies and organizations eligible to apply under the particular priority area. Eligibility to compete in some priority areas is limited to particular applicant organizations. For this reason, and because eligibility varies depending on statutory provisions, it is critical that the ‘Eligible Applicants’ section of the priority area be reviewed carefully.

Only agencies and organizations, not individuals, are eligible to apply. One agency must be identified as the applicant organization and will have legal responsibility for the grant. Additional agencies and organizations can be included as co-participants, subgrantees, subcontractors, or collaborators if they will assist in providing expertise and in helping to meet the needs of the training recipients. Faith-based and community based organizations meeting the eligibility requirements may apply to be a grantee, or they may be included as co-participants, subgrantees, subcontractors, or collaborators if they will assist in providing expertise and in helping to meet the needs of the training recipients. For-profit organizations, that waive their profit, are eligible to participate as subgrantees or subcontractors with eligible nonprofit organizations under all priority areas where nonprofit organizations are the eligible applicants.

Any nonprofit organization submitting an application must submit proof of its nonprofit status in its application at the time of submission. The nonprofit agency can accomplish this by providing a copy of the applicant's listing in the Internal Revenue Service's (IRS) most recent list of tax-exempt organizations described in Section 501(c)(3) of the IRS code, or by providing a copy of the current valid IRS tax exemption certification, or by providing a copy of the articles of incorporation bearing the seal of the State in which the corporation or association is located.

Purpose: This section presents the basic focus and/or broad goal(s) of the priority area.

Background Information: This section briefly discusses the background as well as the current state-of-the-art and/or current state-of-practice that supports the need for the particular priority area activity. Relevant information on projects previously funded by ACYF is noted, where applicable.

Evaluation: This section presents the basic set of issues and specific information that will be evaluated in review of the application. Typically, they relate to the need for assistance, the results expected, project design, evaluation, community involvement, and organization and staff capabilities. Project products and materials, continuation of the project effort after the Federal support ceases, and dissemination/utilization activities, if appropriate, also will be evaluated. Inclusion and discussion of these items is important because the reviewers will use the information submitted by the applicant to evaluate the application against the criteria described in the evaluation section. The appropriateness of the budget to the goals of the project and reasonableness of costs also will be considered in the review process.

Project Duration: This section specifies the maximum allowable length of time for the project period. The term ‘project period’ refers to the total time a project is approved for support. Where appropriate, applicants may propose project periods that are shorter but not longer than the maximums specified in the priority area. The term ‘budget period’ refers to the interval of time (usually 12 months) into which a multiyear period of assistance is divided for budgetary and funding purposes.

For multiyear projects, continued Federal funding beyond the first budget period is dependent upon satisfactory performance by the grantee, availability of funds from future appropriations, and a determination that continued funding is in the best interest of the Government.

Federal Share of Project Costs: This section specifies the maximum amount of Federal support for the project for each budget period.

Matching or Cost Sharing Requirement: This section specifies the minimum non-Federal contribution required in relation to the maximum Federal funds requested for the project. Grantees must provide the non-Federal share, if required, of the total approved cost of the project. The total approved cost of the project is the sum of the Federal share and the non-Federal share. Cash or in-kind contributions may be used to meet the non-Federal share, although applicants are encouraged to meet their match requirements through cash contributions. Non-Federal share contributions may exceed the minimums specified in the various priority areas when the applicant is able to do so. However, applicants should propose only that non-Federal share they can realistically provide because, as a grantee, they must meet the proposed level of match support before the end of the project period. If approved for funding, grantees will be held accountable for the commitment of non-Federal resources and failure to provide the required amount will result in a disallowance of unmatched Federal funds.

Anticipated Number of Projects to be Funded: This section specifies the number of projects that ACYF anticipates funding under the priority area, subject to the availability of funds.

Length of Application: This section specifies the maximum allowable number of pages that will be reviewed. Please be advised that only the information within the specified page limitation will be reviewed and considered for funding.

CFDA Number: This number from the Catalog of Federal Domestic Assistance must be used in each application in Item 10 of the Standard Form 424 (Application for Federal Assistance).

E. Other Considerations

The Commissioner may give special consideration to applications proposing services of special interest to the Government and to achieve geographic distributions of awards. Applications of special interest may include, but are not limited to, applications focusing on unserved or inadequately served clients or service areas; programs addressing diverse ethnic populations; and research topics of particular importance. In making award decisions, ACYF may give preference to applications that focus on: substantially innovative strategies with the potential to improve theory and/or practice in child welfare, with an emphasis on adoption; a model practice or set of procedures that holds the potential for replication by organizations that administer or deliver foster care and/or adoption services and/or child protective services; substantial involvement (financial and/or programmatic) of the private sector, national, or State or community foundations; a favorable balance between Federal and non-Federal funds for the proposed project; or the potential for high benefit from low Federal investment. ACYF may also elect not to fund any applicants having known management, fiscal, reporting, programmatic, or other problems which make it unlikely that they would be able to provide effective services or effectively complete the proposed activity.

Part II: Priority Area

A. Priority Area List

2001E.1 Infant Adoption Awareness Training Program

B. Available Funds

The Administration on Children, Youth and Families proposes to award approximately 2 new cooperative agreements in fiscal year 2001 from the competition resulting from this announcement. The funding is approximately $9 million.

The size of the actual awards will vary. The Federal government may elect to fund applications in FY 2002 out of the pool of applications submitted under this announcement, subject to the availability of resources in FY 2002 and the number and quality of applications received.

C. Priority Area Description

2001E.1 Infant Adoption Awareness Training Program

Eligible Applicants: Eligibility is limited to private nonprofit national, regional, or local organizations among whose primary purpose is adoption and that are knowledgeable in all elements of the adoption process and on providing adoption information and referral to pregnant women.

Purpose: To award cooperative agreements to adoption organizations for the purpose of developing and implementing Infant Adoption Awareness Training Programs (IAATP) to train the designated staff of eligible health centers in providing adoption information and referrals to pregnant women on an equal basis with all other courses of action included in nondirective counseling to pregnant women. Adoption organizations (grantees) will be required to develop and implement curricula that are consistent with best-practices guidelines that will be provided to recipients pursuant to the award of the cooperative agreement. Adoption organizations funded under this priority area will be required to develop and implement curricula to train staff at eligible health centers who provide or who, after training, will provide pregnancy or adoption information and referrals. The grantees will need to provide instruction on their curricula to trainers, who will provide training to health center staff. This instruction may be conveyed using training-of-trainers (TOT) courses or other mechanisms that provide continuity and consistency in the training for the instructors.

Note: A cooperative agreement is a specific method of awarding Federal assistance in which substantial Federal involvement is anticipated. A cooperative agreement clearly defines the respective responsibilities of the Children's Bureau and the grantee prior to award. The Children's Bureau anticipates that agency involvement will produce programmatic benefits to the recipient otherwise unavailable to them for carrying out the project. The involvement and collaboration includes Children's Bureau review and approval of planning stages of the activities before implementation phases may begin and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance, in order to assure compliance with the intent of this funding, exceed those Federal stewardship responsibilities customary for grant activities.

Background Information:

Definitions

Title XII of the Children's Health Act of 2000, which pertains to the IAATP, defines the term “adoption organization” as a “national, regional, or local organization among whose primary purposes are adoption; that is knowledgeable in all elements of the adoption process and on providing adoption information and referrals to pregnant women; and that is a nonprofit private entity.”

The term “designated staff” pertains to staff at an eligible health center “who provide pregnancy or adoption information and referrals (or will provide such information and referrals after receiving training under a grant).”

The term “eligible health centers” as defined in the legislation refers to “public and nonprofit private entities that provide health services to pregnant women,” and these entities are targeted for the receipt of training. These entities are not eligible to submit applications for funding under this program announcement to provide the training. There are approximately 3,000 entities that fit the definition of “eligible health centers” and are therefore eligible to receive training under the IAATP. Adoption organizations funded as IAATP providers make reasonable efforts to ensure that the eligible health centers offered and provided IAAT include those that receive grants under Section 1001 of the Public Health Services Act (PHSA) (relating to voluntary family planning projects); grants under Section 330 of the PHSA (relating to community health centers, migrant health centers, and centers regarding homeless individuals and residents of public housing); and grants under the PHSA for the provision of services in schools.

Specific Tasks To Be Performed by the Adoption Organizations Providing IAATP

The IAATP is designed to ensure that counselors in health clinics and other settings provide women who have unplanned pregnancies with complete and accurate information on adoption. Applicants are required to submit a program plan that clearly and concisely describes a strategy for developing IAATP curriculum, inviting designated staff of eligible health centers (including those funded under PHSA sections specified above) to training, scheduling training, planning and implementing IAATP sessions, and completing post-training activities (e.g., participant reimbursement and evaluation). The plan should indicate the number and qualifications of trainers and anticipated geographic areas in which health center staff training will be conducted.

Adoption organizations funded under this priority area will be required to cooperate fully in any and all evaluations of IAATP sponsored by the Department of Health and Human Services.

Travel for Conferences: Approximately four weeks after the award of the cooperative agreements, the project director, the curriculum designer and/or the training director for each IAATP will be required to attend a two-day conference in Washington, DC, sponsored by the Children's Bureau for IAATP awardees funded under this priority area. Attendees will become part of the membership of the IAATP Network. During this conference DHHS staff will review the best practice guidelines developed for the IAATP and discuss the implications for developing the curricula and related educational materials. Scheduling matters and plans for ensuring that the designated staffs of eligible health centers receive training during the three-year course of the cooperative agreement will be outlined and discussed. The Children's Bureau anticipates reconvening the IAATP Network annually for a two-day meeting in Washington, DC, at the beginning of the second and third project years.

Each budget plan should include funding for the three annual IAATP Network meetings in Washington, DC. Additionally, IAATP awardees will be required to provide funding to send the project director and the evaluator to an annual Children's Bureau grantees meeting.

Geographic Region: In the project narrative, applicants are required to describe the specific geographic region that will be served by the IAATP adoption organization. This section should include a justification for the selection of the region, based on, for example, geographic size or the number and types of eligible health centers in the area. The Children's Bureau will accept applications for projects of national, regional, or local scope. The rationale for the project scope must be justified in detail.

Curriculum Development: As stated above, applicants will be required to develop and implement training programs for the designated staff of the eligible health centers that provide adoption information and referrals to pregnant women on an equal basis with all other courses of action included in nondirective counseling to pregnant women.

Within four months of the award of the cooperative agreement, grantees will be required to submit to the Children's Bureau an IAATP curriculum for review and approval that (a) Is competency-based, (b) conforms to professionally-recognized standards for curriculum format and style, (c) is consistent with the best-practices guidelines, required by the statute, (d) is pilot tested and appropriately modified, as necessary, before broad use, and (e) can be reliably evaluated. After review of the submitted curriculum, the Children's Bureau may require the grantee to make revisions before implementing the training.

In the narrative section of the application, applicants are advised to describe the strategies and processes that they will use to design a curriculum that is consistent with the IAATP guidelines. Because the IAATP guidelines are not currently available, it is not necessary for the applicant to present a tentative curriculum outline with descriptions of specific training modules. Rather, applicants are encouraged to present a description of training approaches that may be used, methods for addressing cultural diversity, anticipated session length, and supplemental materials (participant handouts, visual aides, and other resources). Moreover, applicants are advised to demonstrate a familiarity with and understanding of professionally recognized standards and best practices pertaining to pregnancy counseling, supportive services and adoption services for adolescents and women with unplanned pregnancies.

Trainer Qualifications: CHA requires that adoption organizations sponsoring the IAATP agree to make reasonable efforts to ensure that the individuals who provide the program training are individuals who are knowledgeable in all elements of the adoption process and are experienced in providing adoption information and referrals in the geographic areas in which the eligible health centers are located.

As part of the project narrative, applicants are advised to describe the methods that they will use to recruit, select, train and evaluate instructors who will provide the training to the designated staff of health centers. There are no geographic restrictions on where the prospective trainers may be trained or constraints on how the training is to be conducted. Therefore, applicants will be accorded flexibility in developing training programs for the instructors.

IAATP Implementation: Adoption organizations will be required to begin training of the designated staff of health centers at the beginning of the seventh month after the award of the cooperative agreement. In the project narrative, applicants are advised to specify the proposed geographic region for training of health center staff, the number of training sessions anticipated during each year of funding, and the number of health centers and designated staff to be trained.

To the extent possible, training of designated staff of the health centers is to be conducted in the geographic areas in which the centers are located. Adoption organizations will be required to cooperate and coordinate with the Children's Bureau and the other members of the IAATP Network in selecting sites for health center staff training and scheduling these events to ensure that geographic regions are neither over-served nor under-served. In the project narrative, applicants are encouraged to present a plan that may be used for informing eligible health centers of the availability and time and place of training.

Applicants are also encouraged to present a plan for the dissemination of adoption information that may be used in conjunction with the training or to supplement the training.

Adoption organizations will be required to provide reimbursement to health centers that are grantees funded under PHSA Sections 330 or 1001 for all costs incurred in obtaining training for the designated staff.

Applicants, in the project narrative, are encouraged to present a plan for an ongoing evaluation of the IAATP. The evaluation plan should be two tiered to address (1) Training processes, including the planning, content and quality of training and educational materials provided to health center staff, and methods for improving the program, and (2) participant satisfaction and training effectiveness, including how and the extent to which adoption information and referrals upon request are provided by health center staff.

Applicants that do not have the in-house capacity to conduct an objective, large-scale evaluation are advised to propose contracting with a third-party social sciences evaluator or a university or college to conduct the evaluation.

Evaluation: The following four criteria will be used to review and evaluate each application. The applicant should address each criterion in the project proposal. The point values (summing up to 100) indicate the maximum numerical weight each criterion will be accorded in the review process.

Criterion 1: Objectives and Need for Assistance (20 Points)

Grantees under this priority area, 2001.E1, will design and field-test a curriculum consistent with best practices guidelines, required by the statute, and provide training as part of the Infant Adoption Awareness Training Program (IAATP). Applicants will need to understand the purpose of section 330F of Title XII: Adoption Awareness of the Children's Health Act of 2000 and show how their approach to curriculum design and training implementation will contribute to achieving the legislative goals. Applicants must also demonstrate an understanding of the awareness, information and skills needed by the designated staff of eligible health centers, including grantees under Sections 330 and 1001 of the Public Health Services Act (PHSA) and grantees under the PHSA for the provision of services in schools. Applicants must also demonstrate an understanding of the information and service needs of adolescents and women with unplanned pregnancies.

Applicants should provide letters of commitment or Memoranda of Understanding from organizations, agencies and consultants that will be partners or collaborators in the proposed project. These documents should describe the role of the agency, organization or consultant and detail specific tasks to be performed.

Specific Review Criteria

(1) Extent to which the application reflects an understanding of the goals and objectives of IAATP and shows how their approach to curriculum design and training implementation will contribute to achieving the legislative goals;

(2) Extent to which the application clearly describes and documents the training needs of the designated staff of eligible health centers and demonstrates an understanding of the need for assistance to support and enhance existing curriculum and training efforts pertaining to adoption;

(3) Extent to which the application reflects a knowledge and understanding of the issues faced by adolescents and women with unplanned pregnancies and the importance of providing adoption information and referrals to pregnant women on an equal basis with all other courses of action included in nondirective counseling;

(4) Extent to which the application reflects a knowledge and understanding of the legal framework of adoption, and adoption services and resources in the geographic area in which the proposed training will be conducted;

(5) Extent to which the application describes the specific benefits that the staff of the eligible health centers will derive from the proposed training;

(6) Extent to which the application clearly describes the benefits that clients of the eligible health centers will derive;

(7) Extent to which the application explains how the proposed curriculum and training will contribute to increased knowledge of the problems, issues, and effective strategies and best practices in the field;

(8) Extent to which the application reflects a knowledge and understanding of the challenges of developing IAATP curriculum and providing training to support and enhance the awareness, knowledge and skills of the designated staff of eligible health centers; and

(9) Extent to which the application presents a vision of the training-delivery systems to be developed, and discusses broad contextual factors that will facilitate or impede the implementation of this system.

Criterion 2: Approach (40 Points)

In this section, applicants are expected to define goals and specific, measurable objectives for the project. Goals and objectives should not be confused. Goals are an end product of an effective project. Objectives are measurable steps for reaching goals.

Applicants are advised to describe a preliminary, yet appropriate, feasible plan of action pertaining to the scope of the curriculum and training and provide details on how the proposed training will be accomplished. If the project involves partnerships with other agencies and organizations, then the roles of each partner should be clearly specified.

Applicants are required to describe how IAATP will be evaluated to determine the extent to which it has achieved its stated goals and objectives. Applicants are expected to present a project design that includes detailed procedures for documenting project activities and results, including the development of a data collection infrastructure that is sufficient to support a methodologically sound and rigorous evaluation. The evaluation design is expected to include process and outcome analyses with qualitative and quantitative components.

This criterion consists of four broad topics: (1) Curriculum design, (2) training of trainers and implementation, (3) evaluation, and (4) dissemination.

Curriculum Design

Specific Review Criteria

(1) Extent to which the application reflects a familiarity with and understanding of professionally-recognized standards and best practices pertaining to pregnancy counseling, supportive services and adoption services for adolescents and women with unplanned pregnancies;

(2) Extent to which the proposed training goals, objectives and outcomes are clearly specified and measurable, and reflect an understanding of the characteristics of the training recipients and their clients and the context in which eligible health centers operate; and

(3) Extent to which the application presents an approach to the design of IAATP curriculum that (a) is competency based, (b) conforms to professionally-recognized standards for curriculum format and style, (c) is consistent with the best-practices guidelines, required by the statute, (d) is culturally-responsive to the diverse population of health center pregnancy counselors and their clients, (e) is pilot tested and appropriately modified, as necessary, before broad use, and (f) can be readily evaluated.

Training of Trainers and Implementation

Specific Review Criteria

(1) Extent to which the application clearly describes and provides a justification for the selection of the geographic region that will be served by the training, including the number and types of eligible health centers in the area;

(2) Extent to which the application presents an appropriate, feasible and realistic plan for scheduling and conducting the training, including the number of sessions anticipated during each year of funding, and the number of health centers and designated staff to be trained;

(3) Extent to which the application presents an appropriate, feasible and realistic plan for recruiting, selecting, and training individuals to provide training to designated staff at eligible health centers and ensuring that the selected trainers are knowledgeable in all elements of the adoption process and experienced in providing adoption information and referrals in the geographic areas in which the eligible health centers are located;

(4) Extent to which the application provides an appropriate, feasible and realistic plan for documenting project activities and results, including the collection of data that can be used to describe and evaluate the training, the process used to disseminate information to eligible health centers about the availability of training, contact information, information on the number of trainings held, the number of participants by type of health center (federal funding grantee status, section 1001, section 330, etc.), and participant satisfaction with the training; and

(5) Extent to which the proposed project will establish and coordinate linkages with other appropriate agencies and organizations on the local, State or Federal level serving the target population.

Evaluation

Specific Review Criteria

(1) Extent to which the methods of evaluation are feasible, comprehensive and appropriate to the goals, objectives and context of the training, characteristics of training recipients and health center clients;

(2) Extent to which the applicant provides an appropriate, feasible and realistic plan for evaluating IAATP, including performance feedback and periodic assessment of program progress that can be used to modify the curriculum, as necessary, and serve as a basis for program adjustments;

(3) Extent to which the methods of evaluation include process and outcome analyses for assessing the effectiveness of program strategies and the implementation process;

(4) Extent to which the methods of evaluation include the use of objective performance measures that are clearly related to the intended outcomes of the program and will produce quantitative and qualitative outcome data; and

(5) Extent to which the evaluation plan is likely to yield findings or results about effective strategies, and contribute to and promote evaluation research and evidence-based practices that may be used to guide replication or testing in other settings.

Dissemination

Applicants are required to describe the products that they will develop pursuant to IAATP. Products should include curricula, but may also include questionnaires, interview guides and other data collection instruments, software designed for the proposed program, Internet applications (i.e., Web postings, etc.), technical reports, journal articles, and a final report describing the target population, issues addressed, program design, implementation, outcomes and the results of the evaluation. Applicants should discuss the intended audiences for these products (e.g., adoption agencies, clients of eligible health centers, researchers, policy makers, and practitioners) and present a dissemination plan specifying the venues for conveying the information.

Specific Review Criteria

(1) Extent to which the application provides an appropriate, feasible and realistic plan for dissemination of curricula and related educational materials;

(2) Extent to which the intended audience is clearly identified and defined and is appropriate to the goals of the proposed program;

(3) Extent to which the program's products will be useful to each of these audiences;

(4) Extent to which the application presents a realistic schedule for developing these products, and provides a dissemination plan that is appropriate in scope and budget to each of these audiences; and

(5) Extent to which the products to be developed during the program are described clearly and will address the goal of dissemination of information and are designed to support evidence-based improvements of practices in the field.

Criterion 3: Organizational Profiles (25 Points)

Applicants need to demonstrate that they have the capacity to implement the proposed program. Capacity includes (1) experience with similar projects; (2) experience with the target population; (3) qualifications and experience of the project leadership; (4) commitment to developing and sustaining working relationships among key stakeholders; (5) experience and commitment of any consultants and subcontractors; and, (6) appropriateness of the organizational structure, including the management information system, to carry out the program.

This criterion consists of three broad topics: (1) Management plan, (2) staff qualifications, and (3) organizational capacity and resources.

Management Plan

Applicants are expected to present a sound and feasible management plan for implementing the proposed program. This section should detail how the program will be structured and managed, how the timeliness of activities will be ensured, how quality control will be maintained, and how costs will be controlled. The role and responsibilities of the lead agency should be clearly defined and, if appropriate, applicants should discuss the management and coordination of activities carried out by any partners, subcontractors and consultants.

Applicants should include a list of organizations and consultants who will work with the project, along with a short description of the nature of their contribution or effort.

Applicants are also expected to produce a timeline that presents a reasonable schedule of target dates, accomplishments and deliverables. The timeline should include the sequence and timing of the major tasks and subtasks, important milestones, reports, and completion dates. The application should also discuss factors that may affect project implementation or the outcomes and present realistic strategies for the resolution of these difficulties.

Specific Review Criteria

(1) Extent to which the management plan presents a realistic approach to achieving the objectives of the proposed project on time and within budget, including clearly defined responsibilities, timelines and milestones for accomplishing project tasks;

(2) Extent to which the role and responsibilities of the lead agency are clearly defined and the time commitments of the project director and other key project personnel (including consultants) are appropriate and adequate to meet the objectives of the proposed project;

(3) Extent to which the application discusses factors that may affect the development and implementation of training and presents realistic strategies for the resolution of these difficulties; and

(4) Extent to which the applicant presents an appropriate, feasible and realistic plan for providing reimbursement to health centers that are grantees funded under PHSA Sections 330 or 1001 for all costs incurred in obtaining the training for designated staff.

Staff Qualifications

In this section, applicants must provide evidence that project staff have the requisite training, experience, and expertise to carry out the proposed curriculum development and training on time, within budget, and with a high degree of quality. Include information on staff knowledge of curriculum development, training implementation, the adoption field, and experience working with pregnancy counselors at health centers and women with unplanned pregnancies.

Brief resumes of current and proposed staff, as well as job descriptions, should be included. Resumes must indicate the position that the individual will fill, and each position description must specifically describe the job as it relates to the proposed project.

Specific Review Criteria

(1) Extent to which the proposed project director, key project staff and consultants have the necessary technical skill, knowledge and experience to successfully carry out their responsibilities; and

(2) Extent to which staffing is adequate for the proposed project, including administration, program services, data processing and analysis, evaluation, reporting and dissemination of curriculum, related educational materials and findings.

Organizational Capacity and Resources

Applicants must show that they have the organizational capacity and resources to successfully carry out the project on time and to a high standard of quality, including the capacity to resolve a variety of technical and management problems that may occur. If the proposal involves partnering and/or subcontracting with other agencies/organizations, then the proposal should include an organizational capability statement for each participating organization documenting the ability of the partners and/or subcontractors to fulfill their assigned roles and functions.

Specific Review Criteria

(1) Extent to which the applicant and partnering organizations collectively have experience in developing curricula and implementing training on the local and regional levels;

(2) Extent to which the applicant has experience in developing curricula and other educational materials incorporating best-practice guidelines on the provision of adoption information; and

(3) Extent to which the applicant has adequate organizational resources for the proposed project, including administration, program operations, data processing and analysis, evaluation, reporting and dissemination of findings.

Criterion 4: Budget and Budget Justification (15 Points)

Applicants are expected to present a budget with reasonable project costs, appropriately allocated across component areas and sufficient to accomplish the objectives. Consideration shall be given to project delays due to start-up when preparing the budget.

Applicants are expected to allocate sufficient funds in the budget to provide for the project director, the curriculum designer and/or the training director for the IAATP to attend an annual two-day IAATP Network conference in Washington, D.C. sponsored by the Children's Bureau. Applicants are expected to allocate sufficient funds in the budget to provide for the project director and evaluator to attend an annual three-day grantees' meeting in Washington, D.C. Attendance at these conferences is a grant requirement.

Specific Review Criteria

(1) Extent to which applicant demonstrates that the project costs and budget information submitted in Standard Forms 424 and 424A for the proposed program are reasonable and justified in terms of the proposed tasks and the anticipated results and benefits; and,

(2) Extent to which the fiscal control and accounting procedures are adequate to ensure prudent use, proper and timely disbursement and accurate accounting of funds received under this program announcement.

Project Duration: The projects will be awarded for a project period of 36 months. The project period will be 9/30/01-9/29/04. The initial grant award will be for a 12-month budget period. The initial budget period will be 9/30/01-9/29/02. The award of continuation funding beyond each 12-month budget period will be subject to the availability of funds, satisfactory progress on the part of each grantee, and a determination that continued funding would be in the best interest of the government.

Federal Share of Project Costs: The maximum Federal share of the project is dependent on the scope of the project submitted. The Children's Bureau will accept applications for projects of national, regional, or local scope. Projects of national scope may not exceed $7,000,000 per budget period and smaller, regional projects may not exceed $1,500,000 per budget period. Regardless of scope, all applications must include reasonable budgets with proposed funding commensurate to the scope of work described in the application.

Matching or Cost Sharing Requirement: There is no matching requirement.

Anticipated Number of Projects to be Funded: It is anticipated that two projects will be funded.

Length of Proposal: The length of the proposal is limited to 50 pages, including all forms and attachments. Any pages over this number will be removed and will not be reviewed.

CFDA Number: 93.254.

Part III: The Application: Instructions, Review, and Funding Process

A. Application Format

To be considered for funding, each application must be submitted with the forms provided at the end of this announcement and in accordance with the guidance provided. The application must be signed by an individual authorized to act for the applicant agency and to assume responsibility for the obligations imposed by the terms and conditions of the grant award.

To be considered for funding, each applicant must submit one signed original and two additional copies of the application, including all forms and attachments, to the Application Receipt Point as specified. The original copy of the application must have original signatures, signed in black ink.

The application must be typed, double spaced, printed on only one side, with at least ½ inch margins on each side and 1 inch at the top and bottom, using standard 12-point fonts (such as Times Roman or Courier). Pages must be numbered and each copy must be stapled securely in the upper left corner.

Pages over the page limit stated in with the priority area will be removed from the application and will not be reviewed.

All copies of an application must be submitted in a single package. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review.

B. Application Content

Each application must contain the following items in the order listed:

1. Application for Federal Assistance (Standard Form 424). Follow the instructions below and those that accompany the form.

In Item 5 of Form 424, include name, phone number, and, if available, email and fax numbers of the contact person.

In Item 8 of Form 424, check ‘New.'

In Item 10 of Form 424, clearly identify the Catalog of Federal Domestic Assistance (CFDA) program title and number for the program for which funds are being requested as stated at the end of each priority area section.

In Item 11 of Form 424, identify the single Priority Area the application addresses.

In Item 12 of Form 424, identify the specific geographic area to be served.

In Item 14 of Form 424, identify Congressional districts of both the applicant and project.

2. Budget Information Non-Construction Programs (Form 424A) and Budget Justification. Follow the instructions provided and those in the Uniform Project Description. Note that Federal funds provided to States and services or other resources purchased with Federal funds may not be used to match project grants.

3. Certifications/Assurances. Applicants requesting financial assistance for nonconstruction projects must file the Standard Form 424B, ‘Assurances: Non-Construction Programs.' Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification of their compliance with the Drug Free Workplace Act of 1988. By signing and submitting the application, the applicant is providing the certification and need not mail back the certification with the applications.

Applicants must make the appropriate certification that they are not presently debarred, suspended or otherwise ineligible for an award. By signing and submitting the application, the applicant is providing the certification need not mail back the certification with the applications.

Applicants must make the appropriate certification that they are not presently debarred, suspended or otherwise ineligible for award. By signing and submitting the applications, applicants are providing the certification and need not mail back the certification with the applications.

If applicable, applicants must include a completed Form 310, Protection of Human Subjects.

If applicable, applicants must include a completed SPOC certification (Single Point of Contact) with the date of the SPOC contact entered in line 16, page 1 of the Form 424.

By signing the “Signature of Authorized Representative” on the SF 424, the applicant is providing a certification and need not mail assurances for completing the following grant and cooperative agreement requirements:

a. Collection of data on individuals served; types of services provided; types and nature of needs identified and met and any other such information as may be required by ACYF;

b. Compliance with all HHS regulations and procedures pertaining to confidentiality and careful handling of information on individuals, families and evaluation data; and, obtaining informed consent;

c. Participation in any evaluation effort supported by HHS;

d. Submission of all required reports in a timely manner, in recommended formats (to be provided), and that the final report will also be submitted on disk or electronically using a standard word-processing program; and,

e. Attendance of a key staff person from the project at an annual 3-day grantees' meeting in Washington, DC.

4. Project Abstract/Summary (one page maximum). Clearly mark this page with the applicant name as shown on item 5 of the Form 424, identify the competitive grant Priority Area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description. Applicants should organize their project description by the evaluation criteria listed in Part II under the priority area description and provide specific information that addresses all the components of each evaluation criterion.

Applicants should be mindful of the importance of preparing and submitting applications that are responsive to the priority area description and that use language, terms, concepts and descriptions that are generally known to and accepted by the field of child welfare. Refer to the Uniform Project Description in Part IV for general guidance on preparing a project description and budget justification.

C. State Single Point of Contact (E.O. 12372)

Applicants should contact the State Single Point of Contact (SPOC) for Federal Executive Order 12372 to determine whether the application is subject to the State intergovernmental review process. The OMB list of SPOCs is included in Part IV section B below and available online. Submit a copy of the SPOC response, if available, with your application.

D. The Paperwork Reduction Act of 1995 (Public Law 104-13)

Public reporting burden for this collection of information is estimated to average 20 hours per response, including the time for reviewing instructions, gathering and maintaining the data needed and reviewing the collection information.

The project description is approved under OMB control number 0970-0139 which expires 12/31/2003.

An agency may not conduct or sponsor, and a person is not required to respond to, a collection of information unless it displays a currently valid OMB control number.

For more information please contact:

PA content and usage related, Vardrine Carter, OA/OFS/DGP, (202) 205-8398

OMB clearance related, Bob Sargis, OA/OIS/IRM, (202) 690-7275

If you have any further questions, please contact Larry Thompkins at (202) 260-5607.

E. The Screening, Review and Funding Process

Before a panel review, each application will be screened for applicant organization eligibility as well as to make sure the application contains all essential elements. Applications received from ineligible organizations and applications that are received after the deadline will be withdrawn from further consideration. Applicants will be notified if their applications are screened out.

A panel of at least three reviewers (primarily experts from outside the Federal government) will use the evaluation criteria included in the priority area description to evaluate the applications. The reviewers will determine the strengths and weaknesses of each application, provide comments and assign numerical scores.

All applications will be reviewed and evaluated using four major criteria: (1) Objectives and need for assistance, (2) approach, (3) organizational profiles, and (4) budget and budget justification. Each criterion has been assigned a point value. The point values (summing up to 100) indicate the maximum numerical weight each criterion will be accorded in the review and evaluation process. Within each criterion there is a listing of the specific review criteria that will be used to calculate the score for the criterion. The applicant should address each criterion and the specific review criteria in the project application.

The results of the competitive review are a primary factor in making funding decisions. In addition, Federal staff will conduct administrative reviews of the applications and, in light of the results of the competitive review, will recommend applications for funding to the ACYF Commissioner. ACYF reserves the option of discussing applications with other funding sources when this is in the best interest of the Federal government. ACYF may also solicit and consider comments from ACF Regional Office staff in making funding decisions.

The Commissioner, Administration on Children, Youth and Families, makes final decisions regarding the applications to be funded. Successful applicants will be notified through the issuance of a Financial Assistance Award which will set forth the amount of funds granted, the terms and conditions of the grant or cooperative agreement, the effective date of the grant, the budget period for which initial support will be given, the non-Federal share to be provided, if applicable, and the total project period for which support is contemplated.

The Commissioner will notify organizations in writing when their applications will not be funded. Every effort will be made to notify all unsuccessful applicants as soon as possible after final decisions are made.

Grants will be reviewed in late summer 2001. FY 2001 grant awards will be made by the Department of Health and Human Services no later than September 30, 2001.

Part IV: Application Forms, Assurances, and Certifications

A. Project Description Overview

The following ACF Uniform Project Description has been approved under OMB Control Number 0970-0139. Applicants should prepare the project description statement in accordance with the following general instructions.

1. Project Summary/Abstract: Provide a summary of the project description (one page or less) with reference to the funding request.

2. Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

3. Approach: Outline a plan of action, which describes the scope, and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of program activities to be held, or appropriate measurable outcomes. When accomplishments cannot be quantified by activity or function, list them in chronological order to show the schedule of accomplishments and their target dates.

If any data are to be collected, maintained, and/or disseminated, clearance may be required from the U.S. Office of Management and Budget (OMB). This clearance might be needed prior to any “collection of information that is conducted or sponsored by ACF.” List organizations, cooperating entities, consultants, or other key individuals whom will work on the project along with a short description of the nature of their effort or contribution.

4. Evaluation: Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

5. Organizational Profiles: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any nonprofit organization submitting an application must submit proof of its nonprofit status in its application at the time of submission. The nonprofit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

6. Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

6a. Personnel:

Description: Costs of employee salaries and wages.

Justification: Identify the project director or principal investigator, if known. For each staff person, provide the title, time commitment to the project (in months), time commitment to the project (as a percentage or full-time equivalent), annual salary, grant salary, and wage rates. Do not include the costs of consultants or personnel costs of delegate agencies or of specific project(s) or businesses to be financed by the applicant.

6b. Fringe Benefits:

Description: Costs of employee fringe benefits unless treated as part of an approved indirect cost rate.

Justification: Provide a breakdown of the amounts and percentages that comprise fringe benefit costs such as health insurance, FICA, retirement insurance, and taxes.

6c. Travel:

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

6d. Equipment:

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

6e. Supplies:

Description: Costs of all tangible personal property other than that included under the Equipment category.

Justification: Specify general categories of supplies and their costs. Show computations and provide other information which supports the amount requested.

6f. Contractual:

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

6g. Other:

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

6h. Indirect Charges:

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate application based on its most recently completed fiscal year in accordance with the principles set forth in the cognizant agency's guidelines for establishing indirect cost rates, and submit it to the cognizant agency. Applicants awaiting approval of their indirect cost applications may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

6i. Program Income:

Description: The estimated amount of income, if any, expected to be generated from this project.

Justification: Describe the nature, source and anticipated use of program income in the budget or refer to the pages in the application which contain this information.

B. Other Forms, Assurances, and Certifications

Standard Form 424: Application for Federal Assistance

Standard Form 424A: Budget Information

Standard Form 424B: Assurances—Non-Construction Programs

Certification Regarding Debarment

Certification Regarding Drug-Free Workplace

Form LLL: Disclosure of Lobbying

Certification Regarding Environmental Tobacco Smoke

State Single Point of Contact (SPOC) Listing

All forms are available online at: http://www.acf.dhhs.gov/programs/ofs/grants/form.htm.

The SPOC listing is available on line at http://www.whitehouse.gov/omb/grants/spoc.html.

Dated: May 29, 2001.
James A. Harrell,
Acting Commissioner, Administration on Children, Youth and Families.

[FR Doc. 01-13921 Filed 6-1-01; 8:45 am]

BILLING CODE 4184-01-P